DEPARTMENT OF THE INTERIOR

National Park Service

Lake Clark National Park and Preserve Subsistence Resource Commission; Notice of Meeting

AGENCY: National Park Service, Interior.

ACTION: Announcement of Lake Clark National Park Subsistence Resource Commission meeting.

SUMMARY: Notice is hereby given in accordance with the Federal Advisory Committee Act that a meeting of the Lake Clark National Park Subsistence Resource Commission will be held at Pedro Bay, Alaska. The purpose of the meeting will be to review Federal Subsistence Board wildlife proposals and continue work on National Park Service subsistence hunting program recommendations including other related subsistence management issues. The meeting will be open to the public. Any person may file with the Commission a written statement concerning the matters to be discussed.

The Subsistence Resource Commission is authorized under Title VIII, Section 808, of the Alaska National Interest Lands Conservation Act, Public Law 96-487, and operates in accordance with the provisions of the Federal Advisory Committee Act.

DATES: The meeting will be held on Wednesday, September 22, 2004, from 10 a.m. to 4 p.m. at the Pedro Bay Village Council Office, Pedro Bay, Alaska.

FOR FURTHER INFORMATION CONTACT: Mary McBurney, Subsistence Manager at (907) 644-3598 and Joel Hard, Superintendent, at (907) 781-2218.

SUPPLEMENTARY INFORMATION: Notice of this meeting will be published in local newspapers and announced on local radio stations prior to the meeting dates. Locations and dates may need to be changed based on weather or local circumstances.

The following agenda items will be discussed:

1. Call to order (SRC Chair).

2. Roll Call and Confirmation of Quorum.

3. SRC Chair and Superintendent's Welcome and Introductions.

4. Review and Adopt Agenda.

5. Review Commission Purpose and Status of Membership.

6. Review and adopt minutes from last meeting.

7. Park Subsistence Coordinator's Report.

(a) Unit 9(B) Sheep Study.

(b) Unit 9(B) Moose Study.

(c) NPS Subsistence Eligibility.

(d) NPS Wood Cutting Permits.

8. Review Federal Subsistence Board—Wildlife Actions and Proposals.

9. Review Federal Subsistence Board—Fisheries Actions and Proposals.

10. Develop Subsistence Hunting Program Recommendations/Comments on Proposals.

11. Public and agency comments.

12. Set time and place of next SRC meeting.

13. Adjournment.

Draft minutes of the meeting will be available for public inspection approximately six weeks after the meeting from: Superintendent, Lake Clark National Park and Preserve, P.O. Box 4230, University Drive #311, Anchorage, AK 99508.

Dated: June 23, 2004.
Ralph Tingey,
Acting Regional Director, Alaska.

[FR Doc. 04-16156 Filed 7-15-04; 8:45 am]

BILLING CODE 4312-64-P